FEDERAL COMMUNICATIONS COMMISSION

[CG Docket No. 10-162; DA 10-1325]

The Consumer and Governmental Affairs Bureau Seeks Comment on the Commission's Policies and Practices To Ensure Compliance With Section 504 of the Rehabilitation Act of 1973

AGENCY: Federal Communications Commission.

ACTION: Notice.

SUMMARY: In this document, the Commission, via the Consumer and Governmental Affairs Bureau (Bureau), initiates a review of the Commission's policies and practices under Section 504 of the Rehabilitation Act of 1973 (Section 504). Section 504 requires Federal agencies to make their programs and activities accessible to people with disabilities. This document seeks comment on the accessibility of the Commission's programs and activities.

DATES: Comments are due on or before September 20, 2010.

ADDRESSES: You may submit comments identified by [CG Docket No. 10-162], and by any of the following methods:

• Electronic Filers: Comments may be filed electronically using the Internet by accessing the Commission's Electronic Comment Filing System (ECFS): http://www.fcc.gov/cgb/ecfs/, or the Federal eRulemaking Portal: http://www.regulations.gov. Filers should follow the instructions provided on the Web site for submitting comments. For ECFS Filers, in completing the transmittal screen, filers should include their full name, U.S. Postal Service mailing address, and the applicable docket, which in this instance is CG Docket No. 10-162.

• Paper Filers: Parties who choose to file by paper must file an original and four copies of each filing. Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th Street, SW., Room TW-A325, Washington, DC 20554. All hand deliveries must be held together with rubber bands or fasteners. Any envelopes must be disposed of before entering the building. The filing hours are 8 a.m. to 7 p.m.

• Commercial overnight mail (other than U.S. Postal Service Express Mail and Priority Mail) must be sent to 9300 East Hampton Drive, Capitol Heights, MD 20743. U.S. Postal Service first-class, Express, and Priority mail must be addressed to 445 12th Street, SW., Washington, DC 20554.

• Pursuant to 47 CFR 1.1810(b): “Written comments shall be signed by the commenter or by someone authorized to do so on his or her behalf. The signature of the commenter, or signature of someone authorized by the commenter to do so on his or her behalf, shall be provided on print comments. Comments in audio, Braille, electronic, and/or video formats shall contain an affirmative identity statement of the individual, which for this purpose shall be considered to be functionally equivalent to a commenter's signature.”

FOR FURTHER INFORMATION CONTACT: Pam Gregory, Consumer and Governmental Affairs Bureau, Consumer Affairs and Outreach Division, at (202) 418-2498 (voice), (202) 418-1169 (TTY), or e-mail at Pam.Gregory@fcc.gov.

SUPPLEMENTARY INFORMATION: This is a summary of the Commission's document, DA 10-1325, released July 19, 2010 in CG Docket No. 10-162. The full text of DA 10-1325 and copies of any subsequently filed documents in this matter will be available for public inspection and copying via ECFS (insert [CG Docket No. 10-162] into the Proceeding block) and during regular business hours at the FCC Reference Information Center, Portals II, 445 12th Street, SW., Room CY-A257, Washington, DC 20554. They may also be purchased from the Commission's duplicating contractor, Best Copy and Printing, Inc., Portals II, 445 12th Street, SW., Room CY-B402, Washington, DC 20554, telephone: (800) 378-3160, fax: (202) 488-5563, or via its Web site, http://www.bcpiweb.com. DA 10-1325 can also be downloaded in Word and Portable Document Format (PDF) at: http://www.fcc.gov/cgb/dro/section_504.html.

People with Disabilities: To request materials in accessible formats for people with disabilities (Braille, large print, electronic files, audio format), send an e-mail to fcc504@fcc.gov or call the Consumer and Governmental Affairs Bureau at (202) 418-0530 (voice) or (202) 418-0432 (tty).

Synopsis

In document DA 10-1325, the Bureau initiates a review of the Commission's policies and practices under Section 504. Section 504 requires Federal agencies to make their programs and activities accessible to people with disabilities.

The Commission's rules mandate that it conduct a review of its current Section 504 policies and practices in view of advances in relevant technology and achievability, and that it update its Section 504 Handbook every three years. The Section 504 Handbook contains accessibility procedures and guidelines for releasing documents, holding meetings, receiving comments, and other aspects of Commission programs and activities, and is available in Word, PDF, Text, HTML and Braille at http://www.fcc.gov/cgb/dro/section_504.html. The Bureau seeks comment on the overall accessibility of the Commission's activities and programs. This includes, but is not limited to, the availability of sign language interpreters, physically accessible buildings and meeting spaces, Braille documents, assistive listening devices, Communication Access Realtime Translation (CART), captioning, and other forms of reasonable accommodation needed for access to Commission programs and activities.

Karen Peltz Strauss,
Deputy Chief, Consumer and Governmental Affairs Bureau, Federal Communications Commission.

[FR Doc. 2010-20909 Filed 8-20-10; 8:45 am]

BILLING CODE 6712-01-P